DEPARTMENT OF HEALTH AND HUMAN SERVICES

Administration for Children and Families

[OMB No.: 0970-0376]

Submission for OMB Review; Comment Request

Title: Strengthening Communities Fund Program Evaluation.

Description: This proposed information collection activity is to obtain evaluation information from Strengthening Communities Fund (SCF) grantees. Grantees include participants in two SCF grant programs contributing to the economic recovery as authorized in the American Recovery and Reinvestment Act of 2009 (ARRA). The SCF evaluation is an important opportunity to examine the outcomes achieved by the Strengthening Communities Fund in meeting its objective of improving the capacity of grantees that include Nonprofit organizations and State, Local and Tribal Governments. The evaluation for each program will be designed to assess progress and measure increased organizational capacity of grantees is each of the two SCF programs. The purpose of this request will be to establish the approved baseline instruments for follow-up data collection.

Respondents: SCF Grantees (both the Nonprofit Capacity Building Program and the Government Capacity Building Program) made up of state, local, and Tribal governments, as well as nonprofit organizations.

Annual Burden Estimates

Instrument | Number of respondents | Number of responses per respondent | Average burden hours per response | Total burden hours
Nonprofit Capacity Building Program Performance Progress Report (PPR) | 35 | 4 | 1 | 140
Government Capacity Building Program PPR | 49 | 4 | 1 | 196

Estimated Total Annual Burden Hours: 336.

Additional Information:

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7285, E-mail: OIRA_SUBMISSION@OMB.EOP.GOV. Attn: Desk Officer for the Administration for Children and Families.

Dated: August 31, 2010.
Robert Sargis,
Reports Clearance Officer.

[FR Doc. 2010-22132 Filed 9-3-10; 8:45 am]

BILLING CODE 4184-01-P